DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 17, 2003.

Interested persons are invited to submit written comments regarding the subject matter of the investigations to the Director, Division of Trade Adjustment Assistance, at the address shown below, not later than November 17, 2003.

The petitions filed in this case are available for inspection at the Office of the Director, Division of Trade Adjustment Assistance, Employment and Training Administration, U.S. Department of Labor, Room C-5311, 200 Constitution Avenue, NW., Washington, DC 20210.

Signed at Washington, DC this 7th day of October 2003.
Timothy Sullivan,
Director, Division of Trade Adjustment Assistance.

Appendix
[Petitions Instituted Between 09/15/2003 and 09/26/2003]
TA-W | Subject firm (petitioners) | Location | Date of institution | Date of petition
52,857 | Hart Tackle Co., LLC (Comp) | Stratford, OK | 09/15/2003 | 08/22/2003
52,858 | Wetsel-Oviatt Lumber Co. (Comp) | El Dorado Hills, CA | 09/15/2003 | 08/25/2003
52,859 | Prestige Products, Inc. (MN) | MInneapolis, MN | 09/15/2003 | 09/15/2003
52,860 | Olympic Tool and Engineering, Inc. (Comp) | Shelton, WA | 09/15/2003 | 08/26/2003
52,861 | Intermet (Comp) | Radford, VA | 09/15/2003 | 09/09/2003
52,862 | Paxar Corporation (Comp) | Lenoir, NC | 09/16/2003 | 08/25/2003
52,863 | Thantex Specialties (Comp) | Abbeville, SC | 09/16/2003 | 08/27/2003
52,864 | Cooper-Atkins Corporation (Comp) | Middlefield, CT | 09/16/2003 | 08/19/2003
52,865 | Washington Logistics, Inc. (IBT) | Olympia, WA | 09/17/2003 | 09/11/2003
52,866 | Dyno Nobel (Comp) | Ulster Park, NY | 09/17/2003 | 09/09/2003
52,867 | Pittsfield Woolen Yarns Co., Inc. (Comp) | Pittsfield, ME | 09/17/2003 | 09/04/2003
52,868 | Badorf Shoe Co., Inc. (Comp) | Lititz, PA | 09/17/2003 | 09/09/2003
52,869 | Clayson Knitting Co., Inc. (Comp) | Star North, NC | 09/17/2003 | 09/04/2003
52,870 | Shell International E and P (Comp) | Houston, TX | 09/17/2003 | 09/04/2003
52,871 | General Mills (Comp) | Eden Prairie, MN | 09/17/2003 | 09/09/2003
52,872 | Becton Dickinson (Comp) | Holdrege, NE | 09/17/2003 | 09/11/2003
52,873 | Progress Casting Group, Inc. (Comp) | Plymouth, MN | 09/17/2003 | 09/08/2003
52,874 | PMW Illinois, Inc. (Comp) | Carlinville, IL | 09/17/2003 | 09/10/2003
52,875 | Lucent Technologies (Wkrs) | Naperville, IL | 09/17/2003 | 09/05/2003
52,876 | Excel Finishing Corp. (Comp) | Ridgewood, NY | 09/17/2003 | 09/08/2003
52,877 | Sonoco Flexible Packaging (Comp.) | Fulton, NY | 09/22/2003 | 09/09/2003
52,878 | Cid Hosiery Mill, Inc. (Comp.) | Lexington, NC | 09/22/2003 | 09/16/2003
52,879 | Jan-Sew (Comp.) | Crossville, TN | 09/22/2003 | 09/15/2003
52,880 | Dayton Superior (Comp.) | Birmingham, AL | 09/22/2003 | 09/18/2003
52,881 | Mohican Mills (Comp.) | Lincolnton, NC | 09/22/2003 | 09/18/2003
52,882 | APW-Erie, Inc. (Comp.) | Erie, PA | 09/22/2003 | 06/17/2003
52,883 | Interceptor (Comp.) | Kodiak, AK | 09/22/2003 | 09/11/2003
52,884 | Fishing Vessel (F/V) Confidence (Comp.) | Sitka, AK | 09/22/2003 | 09/12/2003
52,885 | U.S. Tsubaki (Comp.) | Holyoke, MA | 09/22/2003 | 09/18/2003
52,886 | Savane International Corp. (Comp.) | El Paso, TX | 09/22/2003 | 09/11/2003
52,887 | Connie Rose Manufacturing (Comp.) | Philadelphia, PA | 09/22/2003 | 09/17/2003
52,888 | Santoko America, Inc. (Comp. | Tolleson, AZ | 09/22/2003 | 09/09/2003
52,889 | Fox River Paper Co. (R.B.) | Appleton, WI | 09/22/2003 | 09/18/2003
52,890 | Alagold Corporation (Comp.) | Montgomery, AL | 09/22/2003 | 09/16/2003
52,891 | C.O.W. Ind Inc. (Comp.) | Columbus, OH | 09/22/2003 | 09/22/2003
52,892 | Fishing Vessel (F/V) Sea Comber (Comp.) | Sitka, AK | 09/22/2003 | 08/21/2003
52,893 | R and J (Comp) | Kasilof, AK | 09/23/2003 | 09/08/2003
52,894 | Fishing Vessel (F/V) Desperado (Comp) | Wasilla, AK | 09/23/2003 | 08/24/2003
52,895A | Fishing Vessel (F/V) Village Idiot (Comp.) | Fairbanks, AK | 09/23/2003 | 08/26/2003
52,895 | Fishing Vessel (F/V) Madam Ching (Comp) | Fairbanks, AK | 09/23/2003 | 08/26/2003
52,896 | Rubicon (Comp) | Kodiak, AK | 09/23/2003 | 09/09/2003
52,897 | Alchemist, Inc. (Comp) | Southeast, AK | 09/23/2003 | 09/22/2003
52,898 | State of Alaska Commercial Fisheries (Comp) | Kodiak, AK | 09/23/2003 | 09/19/2003
52,899 | F/V Double Dare (Comp) | Kalama, WA | 09/23/2003 | 09/10/2003
52,900 | F/V Wolf Chief (Comp) | Ketchikan, AK | 09/23/2003 | 09/12/2003
52,901 | Snap-On Tools (Wkrs) | Mr. Carmel, IL | 09/23/2003 | 08/29/2003
52,902 | Buffalo China (GMP) | Buffalo, NY | 09/23/2003 | 09/04/2003
52,903 | Straits Steel and Wire (Comp) | Ludington, MI | 09/23/2003 | 09/08/2003
52,904 | York International (UAW) | York, PA | 09/23/2003 | 09/09/2003
52,905 | RadioShack Corp. (Comp) | Ft. Worth, TX | 09/23/2003 | 09/10/2003
52,907 | Dycraftsmen, Inc. (UNITE) | Tourton, MA | 09/23/2003 | 08/29/2003
52,908 | Coastal Apparel, LLC (Comp) | Tabor City, NC | 09/23/2003 | 09/05/2003
52,909 | Dolly, Inc. (Wkrs) | Tipp City, OH | 09/23/2003 | 08/28/2003
52,910 | Safer Textiles Processing (NJ) | Newark, NJ | 09/23/2003 | 09/10/2003
52,911 | International Paper (Wkrs) | Orange, TX | 09/23/2003 | 09/11/2003
52,912 | Boise Cascade (WCIW) | Yakima, WA | 09/23/2003 | 09/04/2003
52,913 | Spectrulite Consortium, Inc. (USWA) | Madison, IL | 09/23/2003 | 09/15/2003
52,914 | Gates Corporation (Comp) | Elizabethtown, KY | 09/23/2003 | 09/10/2003
52,915 | Advanced Design and Knits, Inc. (Comp) | Copiague, NY | 09/23/2003 | 08/30/2003
52,916 | Rite Industries, Inc. (Comp) | High Point, NC | 09/23/2003 | 09/04/2003
52,917 | Hooven-Allison (Wkrs) | Xenia, OH | 09/23/2003 | 08/21/2003
52,918 | Nationwide Title Clearing, Inc. (Wkrs) | Palm Harbor, FL | 09/23/2003 | 09/09/2003
52,919 | Keller Furniture (Comp) | Corydon, IN | 09/23/2003 | 09/05/2003
52,920 | Sony Ericsson Mobile Communications (Wkrs) | RTP, NC | 09/23/2003 | 09/10/2003
52,921 | Federal Mogul Corp. (Comp) | Sumter, SC | 09/23/2003 | 09/10/2003
52,922 | Curtis Fine Papers (Comp) | Adams, MA | 09/23/2003 | 09/08/2003
52,923 | Delphi Chassis (USWA) | Dayton, OH | 09/23/2003 | 09/04/2003
52,924 | Techneglas, Inc. (GMP) | Columbus, OH | 09/23/2003 | 09/09/2003
52,925 | SKF USA, Inc. (Comp) | Altoona, PA | 09/23/2003 | 09/11/2003
52,926 | Standard Mercerizing and Specialty Yarn (UNI) | Chattanooga, TN | 09/23/2003 | 09/15/2003
52,927 | Railway Handle Corp. (Comp) | Kenbridge, VA | 09/23/2003 | 09/12/2003
52,928 | Northrop Grumman Interconnect Tech. (Comp) | Springfield, MO | 09/23/2003 | 09/09/2003
52,929 | Kaydon Corporation (Comp) | Sumter, SC | 09/23/2003 | 09/15/2003
52,930 | Carolina Mills (Comp) | Maiden, NC | 09/23/2003 | 09/10/2003
52,931 | PCS Nitrogen (BCTGM) | Millington, TN | 09/23/2003 | 09/02/2003
52,932 | Fishing Vessel (F/V) Erika (Comp) | Kodiak, AK | 09/24/2003 | 09/06/2003
52,933 | Ashland Chemicals (Wkrs) | San Antonio, TX | 09/24/2003 | 09/12/2003
52,934 | Lego Systems, Inc. (Wkrs) | Enfield, CT | 09/24/2003 | 08/15/2003
52,935 | Agilent Technologies (Wkrs) | Loveland, CO | 09/24/2003 | 08/20/2003
52,936 | Cook Communications Ministries (Comp) | Elgin, IL | 09/24/2003 | 09/22/2003
52,937 | Nestle Waters (Comp) | Tamarac, FL | 09/24/2003 | 09/11/2003
52,938 | AFOP (Alliance Fiber Optics, Inc.) (Wkrs) | Sunnyvale, CA | 09/24/2003 | 08/27/2003
52,939 | TRTL Enterprise, LLC (Wkrs) | Monmouth, OR | 09/24/2003 | 08/22/2003
52,940 | Motor Coach Industries (Wkrs) | Roswell, MN | 09/24/2003 | 09/14/2003
52,941 | Grede Foundries, Inc. (WI) | Milwaukee, WI | 09/24/2003 | 09/16/2003
52,942 | Innovative Marketing Strategies (Comp) | Pittsburg, KS | 09/24/2003 | 09/16/2003
52,943 | Composites Solutions, Inc (Wkrs) | W. Columbia, SC | 09/24/2003 | 08/28/2003
52,944 | Chiquola Fabrics, LLC (Comp) | Kingsport, TN | 09/24/2003 | 09/15/2003
52,945 | SMTC Manufactureing Corp. of MA (Comp) | Franklin, MA | 09/24/2003 | 08/29/2003
52,946 | Arkansas Metal Castings (Wkrs) | Ft. Smith, AR | 09/24/2003 | 07/30/2003
52,947 | Kueruschield Manufacturing Co. (Wkrs) | Columbia, MO | 09/24/2003 | 09/04/2003
52,948 | US Steel (Comp) | Gary, IN | 09/24/2003 | 09/09/2003
52,949 | Pacific Scientific (Wkrs) | Rockford, IL | 09/24/2003 | 09/08/2003
52,950 | Alva Distributing, Inc. (Comp) | Albermarle, NC | 09/24/2003 | 09/10/2003
52,951 | Durrell Corp. (Wkrs) | Alliance, OH | 09/24/2003 | 08/29/2003
52,952 | Old Time Cutting (NJ) | Passaic, NJ | 09/24/2003 | 09/10/2003
52,953 | Briggs Plumbing Products, Inc. (Comp) | Flora, IN | 09/24/2003 | 09/12/2003
52,954 | Federal Mogul Corp. (Wkrs) | Spartan, TN | 09/24/2003 | 09/12/2003
52,955 | Andritz, Inc. (Comp) | Murcy, PA | 09/24/2003 | 09/05/2003
52,956 | SEMCO (FL) | Ocala, FL | 09/24/2003 | 09/12/2003
52,957 | STMicroelectronics (Wkrs) | Raleigh, NC | 09/24/2003 | 09/05/2003
52,958 | EDS (Wkrs) | Flint, MI | 09/24/2003 | 09/11/2003
52,959 | Maxxim Medical, Inc. (Comp) | Honea Path, SC | 09/24/2003 | 09/19/2003
52,960 | Rosenbluth International (Comp) | Kannapolis, NC | 09/24/2003 | 09/11/2003
52,961 | IPAC Fabrics (Wkrs) | Lewiston, ME | 09/24/2003 | 09/05/2003
52,962 | Pa-Ted Spring Co., Inc. of NC (Comp) | Belmont, NC | 09/24/2003 | 09/03/2003
52,963 | Chicago Cold Rolling, LLC (Wkrs) | Portage, IN | 09/24/2003 | 09/08/2003
52,964 | Phelps Dodge Mining Co. (Comp) | Tyrone, NM | 09/24/2003 | 09/03/2003
52,965 | Agri Beef Co. (ID) | Boise, ID | 09/24/2003 | 09/11/2003
52,966 | Andrew Corp. (Wkrs) | Dallas, TX | 09/24/2003 | 08/27/2003
52,967 | Alphabet Division (Comp) | Mebane, NC | 09/25/2003 | 09/20/2003
52,968 | Snap-On, Inc. (Comp) | Kenosha, WI | 09/25/2003 | 08/20/2003
52,969 | Agilent Technologies (Comp) | Liberty Lake, WA | 09/25/2003 | 09/16/2003
52,970 | Miller Casket Co. (Wkrs) | Jermyn, PA | 09/25/2003 | 09/23/2003
52,971 | Goodyear Tire and Rubber Co. (Wkrs) | Cartersville, GA | 09/25/2003 | 09/24/2003
52,972 | Exfo-Gnubi (Wkrs) | Addison, TX | 09/25/2003 | 09/09/2003
52,973 | Cortina Fabrics (Comp) | Swepsonville, NC | 09/25/2003 | 09/24/2003
52,974 | Corning (Wkrs) | Bedford, MA | 09/25/2003 | 09/16/2003
52,975 | Fall River Paper and Supply Corp. (Comp) | New Bedford, MA | 09/25/2003 | 09/17/2003
52,976 | Upholstery Fabric Mill of GA, Inc. (Comp) | Jasper, GA | 09/25/2003 | 09/19/2003
52,977 | Minnesota Rubber (Comp) | Watertown, SD | 09/25/2003 | 09/11/2003
52,978 | Carmel Textiles, Inc. (Wkrs) | Hialeah, FL | 09/25/2003 | 08/28/2003
52,979 | Conoco Phillips (Wkrs) | Odessa, TX | 09/25/2003 | 08/25/2003
52,980 | Worcester Gear Work, Inc. (Wkrs) | Worcester, MA | 09/25/2003 | 09/09/2003
52,981 | Oce Groupware Tech. (Wkrs) | Boise, ID | 09/25/2003 | 09/22/2003
52,982 | Glaxo Smith Kline Pharmaceuticals (Comp) | Piscataway, NJ | 09/25/2003 | 09/12/2003
52,983 | Escod Ind. (Wkrs) | N. Myrtle Beach, SC | 09/25/2003 | 09/16/2003
52,984 | Sanmina—SCI (Comp) | Carrollton, TX | 09/25/2003 | 09/17/2003
52,985 | Canon USA Semiconductor Div. (Wkrs) | San Antonio, TX | 09/25/2003 | 09/18/2003
52,986 | Alcoa Fijikura, Ltd (Wkrs) | Duncan, SC | 09/25/2003 | 09/15/2003
52,987 | SACM Textiles, Inc. (Wkrs) | Lyman, SC | 09/25/2003 | 09/24/2003
52,988 | Simplot Meat Products (Wkrs) | Nampa, ID | 09/25/2003 | 09/23/2003
52,989 | Standard Textile Co., Inc. (Comp) | Enterprise, AL | 09/25/2003 | 09/23/2003
52,990 | Murata Machinery USA, Inc. (Comp) | Charlotte, NC | 09/25/2003 | 09/08/2003
52,991 | Select Elastics of America (Wkrs) | McAllen, TX | 09/25/2003 | 09/22/2003
52,992 | Planto Furniture Mfg., Co., Inc. (Comp) | San Antonio, TX | 09/25/2003 | 09/22/2003
52,993 | Chas W. House and Sons, Inc. (Wkrs) | Unionville, CT | 09/25/2003 | 09/16/2003
52,994 | Scotts (Wkrs) | Temecula, CA | 09/25/2003 | 09/05/2003
52,995 | Pressed Steel Tank (USWA) | W. Allis, WI | 09/25/2003 | 09/23/2003
52,996 | F/V Claudia H (Comp) | Mt. Vernon, WA | 09/26/2003 | 09/23/2003
52,997 | F/V Valeta H. (Comp) | Point Baker, AK | 09/26/2003 | 09/23/2003
52,998 | Saint-Gobian Calmar (CA) | City of Industr, CA | 09/26/2003 | 09/25/2003
52,999 | Ace Packaging Systems (PACE) | Newport, MI | 09/26/2003 | 09/20/2003
53,000 | VF Jeanswear Limited Partnership (Comp) | Ada, OK | 09/26/2003 | 08/27/2003
53,001 | S.E.T., Inc. (IA) | Dubuque, IA | 09/26/2003 | 09/20/2003
53,002 | AKZ0 Nobel Coatings, Inc. (Wkrs) | Carney's Point, NJ | 09/26/2003 | 09/05/2003
53,003 | Honeywell International (Comp) | Albuquerque, MN | 09/26/2003 | 09/18/2003
53,004 | Xerox Corporation (UNITE) | Webster, NY | 09/26/2003 | 09/15/2003
53,005 | Canton Drop Forge (Wkrs) | Canton, OH | 09/26/2003 | 09/12/2003
53,006 | Intertape Polymer Group (Wkrs) | Brighton, CO | 09/26/2003 | 09/18/2003
53,007 | Contempora Fabrics, Inc. (Comp) | Lumberton, NC | 09/26/2003 | 09/04/2003
53,008 | Martens Manufacturing LLC (Comp) | Kingsford, MI | 09/26/2003 | 09/23/2003
53,009 | W.B. Place (Wkrs) | Hartford, WI | 09/26/2003 | 09/22/2003
53,010 | New Generation Yarn (Wkrs) | Gibsonville, NC | 09/26/2003 | 09/15/2003
53,011 | General Dynamics (WA) | Moses Lake, WA | 09/26/2003 | 09/24/2003
53,012 | Nitram, Inc. (Comp) | Tampa, FL | 09/26/2003 | 09/23/2003
53,013 | American Uniform Co. (Comp) | Robbinsville, NC | 09/26/2003 | 09/19/2003
53,014 | Pulaski Furniture (Wkrs) | Pulaski, VA | 09/26/2003 | 09/22/2003
53,015 | Texas PMW, Inc. (Comp) | Houston, TX | 09/26/2003 | 09/10/2003
53,016 | Accentureanu (Comp) | Anchorage, AK | 09/26/2003 | 09/22/2003
53,017 | Sunbeam Products, Inc. (Comp) | Hattiesburg, MS | 09/26/2003 | 09/23/2003
53,018 | O.P. Link Handle Co. (Comp) | Salem, IN | 09/26/2003 | 09/12/2003
53,019 | Thermal Engineering (Wkrs) | Joplin, MO | 09/26/2003 | 09/15/2003
53,020 | Intercontinental Hotels Group (Wkrs) | Cary, NC | 09/26/2003 | 09/25/2003
53,021 | Carm Newsome Hosiery, Inc. (Comp) | Ft. Payne, AL | 09/26/2003 | 09/16/2003
53,022 | Ideal Forging Corp. (CT) | Southington, CT | 09/26/2003 | 09/24/2003
53,023 | Cardinal Glass Industries, Inc. (Comp) | Menomonie, WI | 09/26/2003 | 09/19/2003
53,024 | Columbia Cable Co. (Comp) | Columbia, MS | 09/26/2003 | 09/12/2003
53,025 | Invensys-Robertshaw (UAW) | Long Beach, CA | 09/26/2003 | 09/18/2003
53,026 | Metaldyne Driveline (UAW) | Bedford Hgts., OH | 09/26/2003 | 09/17/2003
53,027 | Sennett Steel Corp. (UAW) | Warren, MI | 09/26/2003 | 09/17/2003
53,028 | BIC Consumer Products Mfg. Co., Inc. (Comp) | Gaffney, SC | 09/26/2003 | 09/23/2003
53,029 | American Electric Lighting (Comp) | Bainbridge, GA | 09/26/2003 | 09/15/2003
53,030 | Dayton Superior Corp. (GMPPA) | Miamisburg, OH | 09/26/2003 | 09/18/2003
53,031 | Randco Tool and Die, Inc. (Comp) | Meadville, PA | 09/26/2003 | 09/12/2003
53,032 | Plastek Group (The) (Wkrs) | Erie, PA | 09/26/2003 | 09/25/2003
53,033 | Modern Packaging, Inc. (Comp) | Derk Park, NY | 09/26/2003 | 09/16/2003
53,034 | C and C Smith Lumber, Co., Inc. (Comp) | Summerhill, PA | 09/26/2003 | 09/28/2003
53,035 | Supreme Bumper, Inc. (Wkrs) | Toledo, OH | 09/26/2003 | 08/25/2003
53,036 | ABA-PGI, Inc. (Comp) | Manchester, CT | 09/26/2003 | 09/11/2003

[FR Doc. 03-27833 Filed 11-4-03; 8:45 am]

BILLING CODE 4510-30-M